DEPARTMENT OF HOMELAND SECURITY

Federal Emergency Management Agency

[Docket ID: FEMA-2020-0014; OMB No. 1660-0132]

Agency Information Collection Activities: Submission for OMB Review; Comment Request; Consolidated FEMA-National Training and Education Division (NTED) Level 3 Training Evaluation Forms; Correction

AGENCY: Federal Emergency Management Agency, DHS.

ACTION: 30-day notice and request for comments, correction.

SUMMARY: The Federal Emergency Management Agency (FEMA) published a document in the Federal Register on November 25, 2020, inviting the general public to comment on a reinstatement, with change, of a previously approved information collection for which approval has expired. The document contained incorrect cost estimates.

DATES: This correction is effective December 18, 2020.

ADDRESSES: For information on submitting comments, see the November 25, 2020, document at 85 FR 75349.

FOR FURTHER INFORMATION CONTACT: For any questions, please contact Dalia Abdelmeguid at FEMA-NTES@fema.dhs.gov or via phone 202-431-7739. You may contact the Information Management Division for copies of the proposed collection of information at email address: FEMA-Information-Collections-Management@fema.dhs.gov.

SUPPLEMENTARY INFORMATION: In FR Doc. 2020-26052, beginning on page 75349 in the Federal Register of Wednesday, November 25, 2020, the following corrections are made:

1. On page 75350, in the middle column, “Estimated Total Annual Respondent Cost: $1,489,450.” is corrected to read “Estimated Total Annual Respondent Cost: $1,466,298.”

2. On page 75350, in the middle column, “Estimated Total Annual Cost to the Federal Government: $168,913.” is corrected to read “Estimated Total Annual Cost to the Federal Government: $180,082.”

Maile Arthur,
Acting Records Management Branch Chief, Office of the Chief Administrative Officer, Mission Support, Federal Emergency Management Agency, Department of Homeland Security.

[FR Doc. 2020-27915 Filed 12-17-20; 8:45 am]

BILLING CODE 9111-53-P